DEPARTMENT OF HOMELAND SECURITY

United States Immigration and Customs Enforcement

Agency Information Collection Activities: Extension of a Currently Approved Information Collection; Comment Request

Action: 30-Day Notice of Information Collection Under Review; Form I-43, Baggage and Personal Effects of Detained Alien, OMB No. 1653-0023.

The Department of Homeland Security, U.S. Immigration and Customs Enforcement (USICE), is submitting the following information collection request for review and clearance in accordance with the Paperwork Reduction Act of 1995. The Information Collection was previously published in the Federal Register on June 2, 2009, Vol. 74, No. 104 26417, allowing for a 60 day public comment period. USICE received no comments on this Information Collection from the public during this 60 day period.

The purpose of this notice is to allow an additional 30 days for public comments. Comments are encouraged and will be accepted for thirty days September 3, 2009.

Written comments and suggestions from the public and affected agencies regarding items contained in this notice and especially with regard to the estimated public burden and associated response time should be directed to the Office of Information and Regulatory Affairs, Office of Management and Budget. Comments should be addressed to the OMB Desk Officer for U.S. Immigration and Customs Enforcement, Department of Homeland Security, and sent via electronic mail to oira_submission@omb.eop.gov or faxed to (202) 395-5806.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a currently approved Information Collection.

(2) Title of the Form/Collection: Baggage and Personal Effects of Detained Alien.

(3) Agency form number, if any, and the applicable component of the Department of Homeland Security sponsoring the collection: Form I-43, U.S. Immigration and Customs Enforcement.

(4) Affected public who will be asked or required to respond, as well as a brief abstract: Primary: Individuals or Households. This form is used when an arrested alien has been placed in detention or granted voluntary departure under safeguard. The alien completes a voluntary statement of the amount and location of baggage or other personal property in the United States not in his or her immediate possession. It is the responsibility of the arresting officer to ensure that the alien is afforded a reasonable opportunity to collect money due or dispose of such property. The form also protects the government from a later claim by the alien that an opportunity was not given to obtain personal effects before departing the United States.

(5) An estimate of the total number of respondents and the amount of time estimated for an average respondent to respond: 600,000 responses at 1 minute (.0167 hours) per response.

(6) An estimate of the total public burden (in hours) associated with the collection: 10,020 annual burden hours.

Requests for a copy of the proposed information collection instrument, with instructions; or inquiries for additional information regarding this Information Collection should be requested via e-mail to: forms.ice@dhs.gov with “ICE Form I-43” in the subject line.

Dated: July 30, 2009.
Joseph M. Gerhart,
Chief, Records Management Branch, Office of Asset Management, U.S. Immigration and Customs Enforcement, Department of Homeland Security.

[FR Doc. E9-18606 Filed 8-4-09; 8:45 am]

BILLING CODE 9111-28-P